DEPARTMENT OF JUSTICE

Notice of Lodging of Second Modified Consent Decree Under the Clean Water Act

In accordance with 28 CFR 50.7, notice is hereby given that on February 22, 2013, a Second Modified Consent Decree in United States and League of Women Voters of New Orleans, et al. v. Sewerage and Water Board of New Orleans, et al., C.A. No. 2:93-cv-03212-MVL (E.D. La.), was lodged with the United States District Court for the Eastern District of Louisiana. The Sewerage and Water Board of New Orleans (“Board”) is currently implementing the Modified Consent Decree, which was approved by the Court on March 23, 2010. The Modified Consent Decree incorporates comprehensive remedial measures designed to address, prevent, and eliminate unauthorized discharges from the East Bank collection system. The Second Modified Consent Decree extends certain dates in the Modified Consent Decree for completing remedial work in two basins. Specifically, the Second Modified Consent Decree extends the dates for completing remedial work at the Ninth Ward basin from March 31, 2013 to March 31, 2018 and at the New Orleans East basin from October 31, 2013 to October 31, 2019. The parties have agreed to extend the dates due to continuing effects of Hurricane Katrina, including logistical, engineering and financial, that prevent the Board from timely completing remedial work at the two above-mentioned basins under the completion dates set forth in the Modified Consent Decree.

The Department of Justice will receive comments relating to the proposed Second Modified Consent Decree for a period of thirty (30) days from the date of this publication. Comments should be addressed to the Assistant Attorney General, Environment and Natural Resources Division, and either emailed to pubcomment-ees.enrd@usdoj.gov, or mailed to P.O. Box 7611, U.S. Department of Justice, Washington, DC 20044-7611, and should refer to United States and League of Women Voters of New Orleans, et al. v. Sewerage and Water Board of New Orleans, et al., Department of Justice No. 90-5-1-1-4032.

During the comment period, the proposed Second Modified Consent Decree may be examined on the following Department of Justice Web site, http://www.usdoj/enrd/Consent_Decrees.html. A copy of the Second Modified Consent Decree may also be obtained from the Consent Decree Library, P.O. Box 7611, U.S. Department of Justice, Washington, DC 20044-7611, or by faxing or emailing a request to “Consent Decree Copy” (EESCDCopy.enrd@usdoj.gov), fax no. (202) 514-0097, phone confirmation number (202) 514-5271. In requesting a copy of the Consent Decree from the Consent Decree Library, please enclose a check in the amount of $15.00 (25 cents per page production cost) for the Consent Decree without exhibits as listed on page iv. Several of the exhibits are voluminous and the same cost (25 cents per page) will apply. If one or more of the exhibits are requested, fax or email the request to “Consent Decree Copy” as indicated above and provide the requester's contact information to receive the cost of the requested exhibits. Make checks payable to the U.S. Treasury or, if by email or fax, forward a check in that amount to the Consent Decree Library at the stated address.

Maureen Katz,
Assistant Chief, Environmental Enforcement Section, Environment and Natural Resources Division.

[FR Doc. 2013-04624 Filed 2-27-13; 8:45 am]

BILLING CODE 4410-15-P